DEPARTMENT OF ENERGY

Federal Energy Regulatory Commission

[Project No. 382-108]

Southern California Edison Company; Notice of Application for Surrender of License, Soliciting Comments, Motions To Intervene, and Protests

Take notice that the following hydroelectric application has been filed with the Commission and is available for public inspection:

a. Type of Proceeding: Application for surrender of license and decommissioning of project facilities.

b. Project No.: 382-108.

c. Date Filed: May 1 & 2, 2023 and supplemented May 16, 2023.

d. Licensee: Southern California Edison Company.

e. Name of Project: Borel Hydroelectric Project.

f. Location: On the Kern River, in the City of Bodfish in Kern County, California.

g. Filed Pursuant to: Federal Power Act, 16 U.S.C. 791a-825r.

h. Licensee Contact: Meg Richardson, Southern California Edison Company, 1515 Walnut Grove Avenue, Rosemead, CA 91770, (626) 238-2903, Mary.M.Richardson@SCE.com.

i. FERC Contact: Rebecca Martin, (202) 502-6012, Rebecca.martin@ferc.gov.

j. Deadline for filing comments, interventions, and protests: July 13, 2023.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. The first page of any filing should include docket number P-382-108. Comments emailed to Commission staff are not considered part of the Commission record.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Request: Southern California Edison Company (licensee or SCE) is requesting to surrender its license for the Borel Hydroelectric Project and the disposition of all Borel Project facilities (i.e., removal, modification, or abandonment in place). SCE is surrendering the Borel Project license because the U.S. Army Corps of Engineers (Corps) implemented a safety modification to its Lake Isabella Auxiliary Dam for which the Corps condemned 10.7 acres of private and public land associated with the Borel Project and sealed off the existing section of conduit through the Auxiliary Dam by filling it with concrete and abandoning the conduit in place. This action rendered the Borel Project nonfunctional and therefore SCE is seeking to surrender the Project license.

l. Locations of the Application: This filing may be viewed on the Commission's website at http://www.ferc.gov using the “eLibrary” link. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. Agencies may obtain copies of the application directly from the applicant.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

o. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

p. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: June 13, 2023.
Kimberly D. Bose,
Secretary.

[FR Doc. 2023-13074 Filed 6-16-23; 8:45 am]

BILLING CODE 6717-01-P